DEPARTMENT OF JUSTICE

Antitrust Division

Notice Pursuant to the National Cooperative Research and Production Act of 1993; IAP Research, Inc.; Electromagnetic Dynamic Compaction

Notice is hereby given that, on June 19, 2001, pursuant to section 6(a) of the National Cooperative Research and Production Act of 1993, 15 U.S.C. 4301 et seq. (“the Act”), IAP Research, Inc.: Electromagnetic Dynamic Compaction has filed written notifications simultaneously with the Attorney General and the Federal Trade Commission disclosing a change in its membership status. The notifications were filed for the purpose of extending the Act's provisions limiting the recovery of antitrust plaintiffs to actual damages under specified circumstances. Specifically, A.O. Smith Corporation, Milwaukee, WI has been added as a party to this venture.

No other changes have been made in either the membership or planned activity of the group research project. Membership in this group research project remains open, and IAP Research, Inc.: Electromagnetic Dynamic Compaction intends to file additional written notification disclosing all changes in membership.

On July 21, 1999, IAP Research, Inc.: Electromagnetic Dynamic Compaction filed its original notification pursuant to section 6(a) of the Act. The Department of Justice published a notice in the Federal Register pursuant to section 6(b) of the Act on December 14, 1999 (64 FR 69799).

The last notification was filed with the Department on November 15, 2000. A notice was published in the Federal Register pursuant to section 6(b) of the Act on March 2, 2001 (66 FR 13082).

Constance K. Robinson,
Director of Operations, Antitrust Division.

[FR Doc. 01-18798 Filed 7-26-01; 8:45 am]

BILLING CODE 4410-11-M